NATIONAL TRANSPORTATION SAFETY BOARD

Sunshine Act Meetings

TIME AND DATE: 9:30 a.m., Tuesday, December 1, 2020.

PLACE: Virtual.

STATUS: The one item may be viewed by the public through webcast only.

MATTERS TO BE CONSIDERED:

65308 Investigation Report—Collision Between Pickup Truck with Trailer and Group of Motorcycles, Randolph, New Hampshire, June 21, 2019 (HWY19MH010)

CONTACT PERSON FOR MORE INFORMATION: Candi Bing at (202) 590-8384 or by email at bingc@ntsb.gov.

Media Information Contact: Peter Knudson by email at peter.knudson@ntsb.gov or at (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: Friday, November 13, 2020.
LaSean R. McCray,
Assistant Federal Register Liaison Officer.

[FR Doc. 2020-25427 Filed 11-13-20; 11:15 am]

BILLING CODE 7533-01-P